DEPARTMENT OF TRANSPORTATION

Federal Aviation Administration

14 CFR Part 39

[Docket No. FAA-2022-1643; Project Identifier MCAI-2022-00799-T; Amendment 39-22376; AD 2023-05-07]

RIN 2120-AA64

Airworthiness Directives; Airbus SAS Airplanes

AGENCY: Federal Aviation Administration (FAA), Department of Transportation (DOT).

ACTION: Final rule.

SUMMARY: The FAA is superseding Airworthiness Directive (AD) 2020-21-07, which applied to all Airbus SAS Model A350-941 and -1041 airplanes. AD 2020-21-07 required replacement of affected passenger oxygen masks (which includes re-identifying the parts). This AD was prompted by a determination that additional parts are subject to the unsafe condition. This AD continues to require the actions in AD 2020-21-07, and also requires replacing additional affected parts; as specified in a European Union Aviation Safety Agency (EASA) AD, which is incorporated by reference. This AD also prohibits installation of affected parts. The FAA is issuing this AD to address the unsafe condition on these products.

DATES: This AD is effective May 12, 2023.

The Director of the Federal Register approved the incorporation by reference of a certain publication listed in this AD as of May 12, 2023.

ADDRESSES:

AD Docket: You may examine the AD docket at regulations.gov under Docket No. FAA-2022-1643; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2022-1643.

FOR FURTHER INFORMATION CONTACT: Dat Le, Aerospace Engineer, Large Aircraft Section, FAA, International Validation Branch, 2200 South 216th St., Des Moines, WA 98198; telephone 516-228-7317; email dat.v.le@faa.gov.

SUPPLEMENTARY INFORMATION:

Background

The FAA issued a notice of proposed rulemaking (NPRM) to amend 14 CFR part 39 to supersede AD 2020-21-07, Amendment 39-21280 (85 FR 64949, October 14, 2020) (AD 2020-21-07). AD 2020-21-07 applied to all Airbus SAS Model A350-941 and -1041 airplanes. AD 2020-21-07 required replacement of affected passenger oxygen masks (which includes re-identifying the parts). The FAA issued AD 2020-21-07 to address sticking of the breathing bag on certain passenger oxygen masks, which could prevent the breathing bag from fully inflating, and possibly injure cabin occupants following a depressurization event.

The NPRM published in the Federal Register on December 22, 2022 (87 FR 78612). The NPRM was prompted by AD 2022-0112, dated June 17, 2022, issued by EASA, which is the Technical Agent for the Member States of the European Union (EASA AD 2022-0112) (referred to after this as the MCAI). The MCAI states that additional affected parts (emergency passenger oxygen container assembly having serial number BEHJ-XXXX) have been identified as being subject to the same unsafe condition.

You may examine the MCAI in the AD docket at regulations.gov under Docket No. FAA-2022-1643.

In the NPRM, the FAA proposed to continue to require the actions in AD 2020-21-07 and to require replacing additional affected parts, as specified in EASA AD 2022-0112. The NPRM also proposed to prohibit the installation of affected parts. The FAA is issuing this AD to address sticking of the breathing bag on certain passenger oxygen masks, which could prevent the breathing bag from fully inflating, and possibly injure cabin occupants following a depressurization event.

Discussion of Final Airworthiness Directive

Comments

The FAA received no comments on the NPRM or on the determination of the cost to the public.

Additional Changes Made to This Final Rule

Since the NPRM was published, the FAA received a parts cost estimate for the passenger oxygen masks. The FAA has revised the Costs of Compliance section of this final rule to include this parts cost.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

EASA AD 2022-0112 specifies procedures for replacing the affected passenger oxygen masks (those passenger oxygen masks contained in each affected emergency passenger oxygen container assembly), and re-identifying each affected part. EASA AD 2022-0112 also prohibits the installation of affected parts.

This material is reasonably available because the interested parties have access to it through their normal course of business or by the means identified in the ADDRESSES section.

Costs of Compliance

The FAA estimates that this AD affects 30 airplanes of U.S. registry. The FAA estimates the following costs to comply with this AD:

Estimated Costs for Required Actions
Action | Labor cost | Parts cost | Cost per product | Cost on U.S. operators
Retained actions from AD 2020-21-07 (13 airplanes) | 6 work-hours × $85 per hour = $510 | Up to $4,250 (per mask assembly) | $4,760 | $61,880
New actions | 6 work-hours × $85 per hour = $510 | Up to $4,250 (per mask assembly) | 4,760 | 142,800

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-21-07, Amendment 39-21280 (85 FR 64949, October 14, 2020); and

b. Adding the following new AD:

2023-05-07 Airbus SAS: Amendment 39-22376; Docket No. FAA-2022-1643; Project Identifier MCAI-2022-00799-T.

(a) Effective Date

This airworthiness directive (AD) is effective May 12, 2023.

(b) Affected ADs

This AD replaces AD 2020-21-07, Amendment 39-21280 (85 FR 64949, October 14, 2020) (AD 2020-21-07).

(c) Applicability

This AD applies to all Airbus SAS Model A350-941 and -1041 airplanes, certificated in any category.

(d) Subject

Air Transport Association (ATA) of America Code 35, Oxygen.

(e) Unsafe Condition

This AD was prompted by a report that sticking effects have been observed affecting the breathing bag on certain passenger oxygen masks, and by a determination that additional parts are subject to the unsafe condition. The FAA is issuing this AD to address sticking of the breathing bag on certain passenger oxygen masks. The unsafe condition, if not addressed, could prevent the breathing bag from fully inflating, and possibly injure cabin occupants following a depressurization event.

(f) Compliance

Comply with this AD within the compliance times specified, unless already done.

(g) Requirements

Except as specified in paragraph (h) of this AD: Comply with all required actions and compliance times specified in, and in accordance with, European Union Aviation Safety Agency (EASA) AD 2022-0112, dated June 17, 2022 (EASA AD 2022-0112).

(h) Exceptions to EASA AD 2022-0112

(1) Where EASA AD 2022-0112 refers to its effective date, this AD requires using the effective date of this AD.

(2) The “Remarks” section of EASA AD 2022-0112 does not apply to this AD.

(3) Where EASA AD 2022-0112 specifies to do the replacement and re-identification specified in Airbus Service Bulletin A350-35-P013, Revision 02, dated March 8, 2022, which specifies to inspect for the part number and serial number and then do a replacement; this AD only requires the replacement and re-identification.

(4) Where service information identified in EASA AD 2022-0112 specifies to do an inspection for the date of manufacture of the affected part, this AD does not require that inspection.

(5) Where Table 3 of EASA AD 2022-0112 specifies a compliance time for airplanes on which “the SB” has not been embodied, for this AD the compliance time for those airplanes is “before exceeding 72 months since airplane date of manufacture or within 30 days after the effective date of this AD, whichever occurs later.”

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Dat Le, Aerospace Engineer, Large Aircraft Section, FAA, International Validation Branch, 2200 South 216th St., Des Moines, WA 98198; telephone 516-228-7317; email dat.v.le@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2022-0112, dated June 17, 2022.

(ii) [Reserved]

(3) For EASA AD 2022-0112, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on March 5, 2023.
Christina Underwood,
Acting Director, Compliance & Airworthiness Division, Aircraft Certification Service.

[FR Doc. 2023-07095 Filed 4-6-23; 8:45 am]

BILLING CODE 4910-13-P